DEPARTMENT OF HEALTH AND HUMAN SERVICES

[Document Identifier: 0937-0191-30D]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before March 12, 2018.

ADDRESSES: Submit your comments to OIRA_submission@omb.eop.gov or via facsimile to (202) 395-5806.

FOR FURTHER INFORMATION CONTACT: Sherrette Funn, Sherrette.Funn@hhs.gov or (202) 795-7714. When requesting information, please include the document identifier 0937-0191-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Application packets for Real Property for Public Health Purposes.

Type of Collection: Revision.

OMB No.: 0937-0191-30D—Office within OS—Office of Assistant Secretary for Administration, Program Support Center, Real Estate, Logistics and Operations Support, Federal Property Assistance Program.

Abstract: The Office of Assistant Secretary for Administration, Program Support Center Federal Property Assistance Program is requesting approval by OMB on a revision. Cited, 40 U.S.C. 550, as amended, provides authority to the Secretary of Health and Human Services to convey or lease surplus real property to States and their political subdivisions and instrumentalities, to tax-supported institutions, and to nonprofit institutions which, (except for institutions which lease property to assist the homeless) have been held exempt from taxation under Section 501(c)(3) of the 1954 Internal Revenue Code, and 501(c)(19) for veterans organizations, for public health purposes. Title V of the McKinney-Vento Homeless Assistance Act (Title V) extended the Secretary's authority to include homeless assistance purposes as a permissible use under public health. The Federal Asset and Transfer Act of 2016 (Pub. L. 114-287) streamlined the Title V process bifurcating the application process. Transfers are made to transferees at little or no cost.

We are requesting that the collection be valid for three years.

Type of respondent: State and local governments and non-profit institutions use these applications to apply for excess/surplus, underutilized/unutilized and off-site government real property. These applications are used to determine if institutions/organizations are eligible to purchase, lease or use property under the provisions of the surplus real property program. Responds are intermittent—only when an eligible organization requests acquisition of identified Federal surplus real property.

Estimated Annualized Burden Table
Type of respondent | Number of respondents | Number responses per respondent | Average burden per response (in hours) | Total burden hours
Applications for surplus Federal real property | 15 | 1 | 200 | 3,000
Total | 15 | 1 | 200 | 3,000

Terry S. Clark,
Office of the Secretary, Asst. Paperwork Reduction Act Reports Clearance Officer.

[FR Doc. 2018-02477 Filed 2-7-18; 8:45 am]

BILLING CODE 4150-04-P